DEPARTMENT OF COMMERCE

National Oceanic and Atmospheric Administration

RIN 0648-XE759

Fisheries of the Caribbean, Gulf of Mexico, and South Atlantic; Snapper-Grouper Fishery of the South Atlantic; Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Dr. David Die and Chiara Pacini at the University of Miami, Rosenstiel School of Marine and Atmospheric Science. If granted, the EFP would authorize the collection of a maximum of 400 juvenile snowy grouper incidentally caught in commercial spiny lobster traps in Federal waters off the Florida Keys in the South Atlantic during the 2016-2017 and 2017-2018 commercial lobster fishing seasons. The purpose of the EFP would be to estimate and validate age and growth rates for juvenile snowy grouper in the South Atlantic.

DATES: Comments must be received no later than September 9, 2016.

ADDRESSES: You may submit comments on the application by either of the following methods:

• Email: mary.vara@noaa.gov. Include in the subject line of the email comment the following document identifier: “University of Miami Snowy Grouper EFP”.

• Mail: Mary Vara, Southeast Regional Office, NMFS, 263 13th Avenue South, St. Petersburg, FL 33701.

The application and related documents are available for review upon written request to any of the above addresses.

FOR FURTHER INFORMATION CONTACT: Mary Vara, 727-824-5305; email mary.vara@noaa.gov.

SUPPLEMENTARY INFORMATION: The EFP is requested under the authority of the Magnuson-Stevens Fishery Conservation and Management Act (16 U.S.C 1801 et seq.), and regulations at 50 CFR 600.745(b) concerning exempted fishing.

The EFP request involves activities covered by regulations implementing the Fishery Management Plans (FMP) for federally managed fisheries of the South Atlantic Region. The proposed collection for scientific research involves activities that would otherwise be prohibited by regulations at 50 CFR part 622, as they pertain to South Atlantic snapper-grouper managed by the South Atlantic Fishery Management Council (Council). The EFP would exempt this research activity from Federal regulations at § 622.170(a)(1) (Permits and endorsements) and other requirements applicable to snapper-grouper permit holders; § 622.183(b)(8) (Seasonal closures); § 622.187(b)(2)(ii) (Bag and possession limits); and § 622.188(a), (b), and (c) (Required gear, authorized gear, and unauthorized gear); § 622.193(b)(2) (Annual catch limits, annual catch targets, and accountability measures). The purpose of this study is to estimate and validate age and growth rates of juvenile snowy grouper to better understand its early life history.

The applicant requests authorization to collect juvenile snowy grouper incidentally caught using standard commercial spiny lobster traps in Federal waters off the Florida Keys in the South Atlantic, bounded by Bahia Honda to the south and Upper Matecumbe Key to the north.

As described in the application, snowy grouper sampling would occur during approximately 15 spiny lobster trips completed during the 2016-2017 and 2017-2018 commercial spiny lobster fishing seasons. These seasons are from August 6, 2016, through March 31, 2017, and August 6, 2017, through March 31, 2018. Approximately 200 spiny lobster traps would be deployed or retrieved during each commercial spiny lobster trip. A maximum of 200 incidentally caught snowy grouper would be collected each year of the 2-season project duration, for a maximum quantity of 400 snowy grouper. The project would end when either 400 snowy grouper are collected over the 2 spiny lobster seasons or by March 31, 2018, whichever occurs first.

Gear used for collecting the snowy grouper would be legal commercial spiny lobster traps constructed of wire with wooden tops that are anchored down with concrete slabs to prevent them from moving during storm winds and heavy currents. The traps are standard spiny lobster traps with dimensions of 35.0 inches (88.9 cm) long, 23.6 inches (59.9 cm) wide, and 23.6 inches (59.9 cm) high. The spiny lobster traps being deployed would be a mix of single traps and trawls (traps tethered together). Each trawl would have approximately 15-25 traps connected together with approximately 50-75 yd (46-69 m) of rope between each trap with buoys on each end. Each trap or trawl would also have a vertical line and a buoy attached, along with the vessel identification and permit number etched into the buoy. Single traps would be set in sand in shallow waters less than 75 ft (23 m), and trawls would be set in sand in deeper waters between 100-300 ft (30-91 m). The exact depth and location of the traps or trawls would be recorded after each deployment. Traps would be baited with raw cowhide and dead fish, and would be re-baited and checked approximately every 2 weeks, depending on weather.

The trap soak time would be approximately 2 weeks. All traps would be retrieved during daylight hours. On retrieval, traps would be hauled slowly to the surface to minimize the risk of barotrauma. Each trap would then be checked for the presence of snowy grouper. If there are snowy grouper present, the trap number, location, depth, length, and date would be documented. Snowy grouper that are longer than 209 mm total length would be released because this study would focus on juvenile snowy grouper. Any other fish collected in the spiny lobster traps would be returned to the water. Before release, fish showing evidence of barotrauma, including snowy grouper longer than 209 mm total length and any other finfish bycatch, would be vented before release. Release cages (or descending devices) would be utilized to aid in fish descent. Lawfully harvested spiny lobster would be retained by the permitted vessel.

A maximum of 20 of the 200 snowy grouper collected each year of the project would be kept alive in an aerated tank and taken to the University of Miami for further study (for a maximum of 30 days) to validate daily growth rings on otoliths (fish ear bones). The remaining snowy grouper will not be kept alive on the boat, but will be taken to the lab where their otoliths would be removed to estimate age and growth rates. Gut contents from all snowy grouper that are not kept alive for further study would be removed for future analysis. In addition, any bycatch from the spiny lobster traps would be documented before being returned to the water. In this study, bycatch would be any animals other than lawfully harvested spiny lobster and snowy grouper longer than 209 mm total length.

The vessel to be used for the project would be a commercial spiny lobster fishing vessel with valid licenses and permits to commercially harvest spiny lobster in the Federal waters off Florida. The EFP would not exempt the applicant from the relevant state of Florida regulations for spiny lobster harvest or from the Federal spiny lobster regulations specified at 50 CFR Subpart R. At least one of the applicants would be present during each of the sampling trips. If the EFP is approved, all collections of juvenile snowy grouper would be conducted during the 2016-2017 and 2017-2018 commercial spiny lobster seasons. All snowy grouper would be collected as part of the vessel's normal commercial spiny lobster fishing trips.

NMFS finds this application warrants further consideration. Based on a preliminary review, NMFS intends to issue an EFP. Possible conditions the agency may impose on this permit, if it is indeed granted, include but are not limited to, a prohibition of conducting research within marine protected areas, marine sanctuaries, special management zones, or artificial reefs without additional authorization. Additionally, NMFS may require special protections for Endangered Species Act listed species and their critical habitat. A final decision on issuance of the EFP will depend on NMFS' review of public comments received on the application, consultations with the appropriate fishery management agency of the affected state, the Council, and the U.S. Coast Guard, and a determination that it is consistent with all applicable laws.

Authority: 16 U.S.C 1801 et seq.

Dated: August 5, 2016.
Emily H. Menashes,
Acting Director, Office of Sustainable Fisheries, National Marine Fisheries Service.

[FR Doc. 2016-18999 Filed 8-9-16; 8:45 am]

BILLING CODE 3510-22-P